DEPARTMENT OF THE TREASURY

Submission for OMB Review; Comment Request

July 23, 2009.

The Department of Treasury is planning to submit the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before September 28, 2009 to be assured of consideration.

Office of Financial Stability (OFS)

OMB Number: 1505-0213.

Type of Review: Extension.

Title: Capital Assistance Program (CAP) Application.

Description: The Emergency Economic Stabilization Act provides the Secretary of the Treasury broad authority to purchase and insure mortgage assets, and to purchase any other financial instrument that the Secretary, in consultation with the Federal Reserve Chairman, determines necessary to stabilize our financial markets. The TARP includes several components including the Capital Assistance Program (CAP) under which the Department may purchase qualifying capital in U.S. banking organizations. The Treasury, through Federal banking agencies, is seeking applicant information for financial institutions that seek participation in the CAP. Treasury is seeking information from financial institutions which include bank holding companies, financial holding companies, insured depository institutions and savings and loan holding companies that engage solely or predominately in activities that are permissible for financial holding companies under relevant law. To qualify, the applicant must be established and operating in the United States and may not be controlled by a foreign bank or company.

Respondents: Businesses and other for-profit institutions.

Estimated Total Reporting Burden: 200 hours.

OMB Number: 1505-0215.

Type of Review: Extension.

Title: Legacy Systems Public-Private Investment Fund Application.

Description: Authorized under the Emergency Economic Stabilization Act (EESA) of 2008 (Pub. L. 110-343), the Department of the Treasury is implementing several aspects of the Troubled Asset Relief Program. The statute provides the Secretary broad authority to purchase and insure mortgage assets, and to purchase any other financial instrument that the Secretary, in consultation with the Federal Reserve Chairman, determines necessary to stabilize our financial markets. The TARP includes several components including a voluntary Legacy Securities Public Private Investment Fund (PPIF). Under this plan the Treasury will contribute equity funding equal to or less than the private capital raised by private investors. In addition Treasury will consider requests for loans from Treasury in amounts of up to 100% of the total equity capital (Treasury plus private) of a Legacy Security PPIF. The Treasury is seeking applicant information for financial institutions that seek participation in the Legacy Securities PPIF.

Respondents: Businesses and other for-profit institutions.

Estimated Total Reporting Burden: 1,200 hours.

Clearance Officer: Suzanne Tosini, (202) 927-9627, 1801 L St, NW., Room 8219, Washington, DC 20036.

Robert Dahl,
Treasury PRA Clearance Officer.

[FR Doc. E9-18111 Filed 7-28-09; 8:45 am]

BILLING CODE 4810-25-P